DEPARTMENT OF DEFENSE

Department of the Army, Corps of Engineers

33 CFR Part 207

RIN 0710-AA62

Navigation Regulations

AGENCY: U.S. Army Corps of Engineers, DoD.

ACTION: Proposed rule; withdrawal.

SUMMARY: The U.S. Army Corps of Engineers (Corps) is withdrawing the proposed rule published on May 25, 2005 (70 FR 30042) which proposed to establish a procedure for modifying the scheduled operational hours at the Lake Washington Ship Canal, Hiram M. Chittenden Locks in Seattle, Washington. The proposed rule would have permitted the District Engineer to change the scheduled operational hours of the locks following issuance of a public notice and after providing a 30-day comment period for any proposed change. The Corps has determined that there is no present need to implement changes in the operation of the Hiram M. Chittenden Locks. The Corps intends to initiate rulemaking in the future if circumstances necessitate instituting a change in the schedule or other parameters of Locks operation.

DATES: The proposed rule is withdrawn as of January 23, 2006.

FOR FURTHER INFORMATION CONTACT: Mr. John Post, Operations Manager, Hiram M. Chittenden Locks, at (206) 789-2622; or Ms. Andrea Takash, Public Affairs Office, (206) 764-3760.

Dated: January 12, 2006.
Gerald W. Barnes,
Chief, Operations, Directorate of Civil Works.

[FR Doc. E6-708 Filed 1-20-06; 8:45 am]

BILLING CODE 3710-92-P